DEPARTMENT OF AGRICULTURE

Forest Service

Colville Resource Advisory Committee (RAC)

AGENCY: Forest Service, USDA.

ACTION: Notice of meeting.

SUMMARY: The Colville Resource Advisory Committee will meet on Tuesday, June 29, 2004 at the Spokane Community College, Colville Campus, Dominion Room, 985 South Elm Street, Colville, Washington. The meeting will begin at 9 a.m. and conclude at 4 p.m. Agenda items include: (1) Introduction of New RAC members; (2), Discuss Budget expenses; (3) Bylaws and Charter Review; (4) Fiscal Year 2005 Title II projects review and recommendation to the forest designated official; and (5) Public Forum.

FOR FURTHER INFORMATION CONTACT: Direct questions regarding this meeting to Rick Brazell, Designated Federal Official or to Cynthia Reichelt, Public Affairs Officer, Colville National Forest, 765 S. Main, Colville, Washington 99114, (509) 684-7000.

Dated: June 9, 2004.
Donald N. Gonzalez,
Ecosystem Planning and Monitoring Staff Offices, Colville National Forest.

[FR Doc. 04-13708 Filed 6-16-04; 8:45 am]

BILLING CODE 3410-11-M